SMALL BUSINESS ADMINISTRATION

[Disaster Declaration #10881 and #10882]

South Dakota Disaster Number SD-00012

AGENCY: Small Business Administration.

ACTION: Amendment 1.

SUMMARY: This is an amendment of the Presidential declaration of a major disaster for the State of South Dakota (FEMA-1702-DR), dated 05/22/2007.

Incident: Severe storms, tornadoes and flooding.

Incident Period: 05/04/2007 and continuing.

Effective Date: 05/31/2007.

Physical Loan Application Deadline Date: 07/23/2007.

Eidl Loan Application Deadline Date: 02/22/2008.

ADDRESSES: Submit completed loan applications to: U.S. Small Business Administration, Processing and Disbursement Center, 14925 Kingsportroad, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of South Dakota, dated 05/22/2007 is hereby amended to include the following areas as adversely affected by the disaster:

Primary Counties:Marshall.

Contiguous Counties:

South Dakota: Roberts.

North Dakota:Richland.

All other information in the original declaration remains unchanged.

(Catalog of Federal Domestic Assistance Numbers 59002 and 59008)

James E. Rivera,
Acting Associate Administrator for Disaster Assistance.

[FR Doc. E7-11170 Filed 6-8-07; 8:45 am]

BILLING CODE 8025-01-P